COUNCIL ON ENVIRONMENTAL QUALITY

Office of Federal Sustainability Employee Charging Guidance

AGENCY: Council on Environmental Quality.

ACTION: Notice of availability, Guidance for Federal Agency Implementation of Workplace Charging Pursuant to the Fixing America's Surface Transportation (FAST) Act: Electric Vehicle Supply Equipment.

SUMMARY: The Office of Federal Sustainability Council on Environmental Quality (CEQ) has issued to Federal agency Chief Sustainability Officers Guidance for Federal Agency Implementation of Workplace Charging Pursuant to the Fixing America's Surface Transportation (FAST) Act: Electric Vehicle Supply Equipment. The guidance outlines how Federal agencies can take advantage of workplace charging opportunities under the FAST Act, and provides an approach for a uniform fee for the use of existing and new hard-wired electric vehicle supply equipment (EVSE) with cordsets including alternating current (AC) Level 1 EVSE, AC Level 2 EVSE, or direct current fast chargers (DCFC), for the purposes of seeking reimbursement under the FAST Act. The document also describes how Federal agency Chief Sustainability Officers should coordinate with Federal agency fleet managers to report annually on the implementation of workplace charging in the Federal Automotive Statistical Tool (FAST).

DATES: The guidance is effective October 19, 2016.

ADDRESSES: The Guidance for Federal Agency Implementation of Workplace Charging Pursuant to the Fixing America's Surface Transportation (FAST) Act: Electric Vehicle Supply Equipment is available at: https://www.whitehouse.gov/administration/eop/ceq/initiatives/sustainability.

FOR FURTHER INFORMATION CONTACT: Dee Siegel, Office of Federal Sustainability, at Dee_S_Siegel@ceq.eop.gov or (202) 456-6224.

SUPPLEMENTARY INFORMATION: This guidance document applies only to Federal agency buildings not under the jurisdiction, custody, or control of the General Services Administration. Agencies are expected to follow the Guidance for Federal Agency Implementation of Workplace Charging Pursuant to the Fixing America's Surface Transportation (FAST) Act: Electric Vehicle Supply Equipment as part of their compliance with E.O. 13693.

Authority: E.O. 13693, 80 FR 15871.

Dated: October 14, 2016.
Christine Harada,
Federal Chief Sustainability Officer, Council on Environmental Quality.

[FR Doc. 2016-25270 Filed 10-18-16; 8:45 am]

BILLING CODE 3225-F7-P